NUCLEAR REGULATORY COMMISSION

[Docket Nos. 50-247 and 50-286; NRC-2008-0672]

Indian Point Nuclear Generating Units 2 and 3; Entergy Nuclear Operations, Inc.

AGENCY: Nuclear Regulatory Commission.

ACTION: License renewal application; intent to prepare a second supplement to final supplemental environmental impact statement.

SUMMARY: On April 23, 2007, Entergy Operations, Inc. (Entergy or the licensee), submitted to the U.S. Nuclear Regulatory Commission (NRC) an application for renewal of Facility Operating Licenses DPR-26 and DPR-64 for an additional 20 years of operation at Indian Point Nuclear Generating Units 2 and 3 (IP2 and IP3). On December 3, 2010, the NRC staff issued the final supplemental environmental impact statement (FSEIS) documenting its final analysis and recommendation on the proposed action—renewal of the operating licenses for IP2 and IP3. On June 20, 2013, the NRC staff issued a supplement to the FSEIS to incorporate new and revised information related to the impacts from IP2 and IP3 on aquatic species. The purpose of this document is to inform the public that the NRC will be preparing a second supplement to the FSEIS to provide information to decision makers relevant to environmental impacts of the proposed federal action and to further the purposes of the National Environmental Policy Act (NEPA), including new aquatic impact data, refined cost estimates associated with the licensee's severe accident mitigation alternatives (SAMA) analysis, and other matters.

ADDRESSES: Please refer to Docket ID NRC-2008-0672 when contacting the NRC about the availability of information regarding this document. You may obtain publicly-available information related to this document using any of the following methods:

• Federal Rulemaking Web site: Go to http://www.regulations.gov and search for Docket ID NRC-2008-0672. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Michael Wentzel, Division of License Renewal, Office of Nuclear Reactor Regulation, U.S. Nuclear Regulatory Commission, Washington, DC 20555-0001; telephone: 301-415-6459; email: Michael.Wentzel@nrc.gov.

SUPPLEMENTARY INFORMATION: Entergy submitted an application for renewal of Facility Operating Licenses DPR-26 and DPR-64 for an additional 20 years of operation at IP2 and IP3, respectively. IP2 and IP3 are located in Westchester County in the Village of Buchanan, New York, approximately 24 miles north of New York City.

The operating license for IP2 expired on September 28, 2013. However, having met the requirements of section 2.109 of Title 10 of the Code of Federal Regulations (10 CFR), the facility is allowed to continue to operate under the existing license until the NRC reaches a decision on the license renewal request.

The current operating license for IP3 expires on December 12, 2015. The application for renewal, dated April 23, 2007, was submitted pursuant to 10 CFR Part 54. In accordance with 10 CFR 51.53(c) and 10 CFR 54.23, Entergy submitted an environmental report (ER) as part of its application. The ER is available in ADAMS under Accession No. ML071210530, and may also be viewed on the internet at http://www.nrc.gov/reactors/operating/licensing/renewal/applications.html. In addition, the ER is available for public inspection at the White Plains Public Library located at 100 Martine Avenue, White Plains, NY 10601; the Hendrick Hudson Free Library located at 185 Kings Ferry Road, Montrose, NY 10548; and the Field Library located at 4 Nelson Avenue, Peekskill, NY 10566.

On December 3, 2010, the NRC staff issued an FSEIS, documenting its final analysis and recommendation on the proposed action—renewal of the operating licenses for IP2 and IP3. The FSEIS is available in ADAMS under package Accession No. ML103360205. On June 20, 2013, the NRC staff issued a supplement to the FSEIS, updating its final analysis to include corrections to impingement and entrainment data presented in the FSEIS, revised conclusions regarding thermal impacts based on newly available thermal plume studies, and an update of the status of the NRC's consultation under section 7 of the Endangered Species Act with the National Marine Fisheries Service regarding the shortnose sturgeon and Atlantic sturgeon. The supplement to the FSEIS is available in ADAMS under Accession No. ML13170A028.

The purpose of this document is to inform the public that the NRC will be preparing a second supplement to the FSEIS to provide information to decision makers relevant to environmental impacts of the proposed federal action and to further the purposes of NEPA, including new aquatic impact data, refined cost estimates associated with the licensee's SAMA analysis, and other matters.

Dated at Rockville, Maryland, this 26th day of August, 2014.
For the Nuclear Regulatory Commission.
Elaine M. Keegan,
Acting Chief, Projects Branch 2, Division of License Renewal, Office of Nuclear Reactor Regulation.

[FR Doc. 2014-20810 Filed 8-29-14; 8:45 am]

BILLING CODE 7590-01-P